DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet November 12-14, 2008. The public may file written comments before or up to two weeks after the meeting with the contact person.

ADDRESSES: The meeting will take place at the Four Points Sheraton, 1201 K Street, NW., Washington, DC 20005. Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Karen Hunter, Executive Director or Shirley Morgan-Jordan, Program Support Coordinator, National Agricultural Research, Extension, Education, and Economics Advisory Board; telephone: (202) 720-3684; fax: (202) 720-6199; or e-mail: Karen.hunter@ars.usda.gov or Shirley.morgan@ars.usda.gov.

SUPPLEMENTARY INFORMATION: On Wednesday, November 12, 2008, an orientation session for new members and interested incumbent members will be held at 10 a.m. The full Advisory Board will convene at 1 p.m. with introductory remarks provided by the Chair of the Advisory Board. There will be brief introductions by new Board members, incumbents, and guests followed by general Advisory Board business. Remarks will be heard from a variety of distinguished leaders and experts in the field of agriculture, as well as officials and/or designated experts from the four agencies in the USDA Research, Education, and Economics mission area. Speakers will provide comments leading to Board recommendations regarding ways the USDA can enhance its research, extension, education, and economic programs to protect the U.S. food, fiber, fuel and agricultural systems. The Honorable Secretary of Agriculture, Edward Schafer, will attend the meeting on Wednesday, November 12, 2008 to provide brief remarks and welcome the new Board members. The meeting will adjourn for the day at 5 p.m. On Thursday, November 13, 2008, the Board will reconvene at 8 a.m. with introductory remarks from Dr. Gale Buchanan, Under Secretary of the Research, Education, and Economics mission area. Various presentations and discussions throughout the day will revolve around four focus areas: Poultry, Invasive Species, Commodity Crops, and Renewable Energy. The meeting will adjourn for the day by 5:15 p.m. On Friday, November 14, 2008, the Board will reconvene with a session to discuss recommendations, future directions, and a general discussion of the meeting. An opportunity for public comment will be offered after the conclusion of this session. The Board Meeting will adjourn by 12 p.m. (noon).

Written comments by attendees or other interested stakeholders will be welcomed for the public record before and up to two weeks following the Board meeting (by close of business Friday, November 28, 2008). All statements will become a part of the official record of the National Agricultural Research, Extension, Education, and Economics Advisory Board and will be kept on file for public review in the Research, Extension, Education, and Economics Advisory Board Office.

Done at Washington, DC this 17th day of October 2008.
Gale Buchanan,
Under Secretary Research, Education, and Economics.

[FR Doc. E8-25369 Filed 10-23-08; 8:45 am]

BILLING CODE 3410-22-P